DEPARTMENT OF HEALTH AND HUMAN SERVICES

Administration for Children and Families

Submission for OMB Review; Comment Request

Title: Child Welfare Demonstration Projects Information Collection.

OMB No.: New.

Description: Per section 1130 of the Social Security Act as amended by Public Law 112-34, the Administration for Children and Families (ACF), Administration on Children, Youth and Families (ACYF), Children's Bureau (CB) is planning to announce an opportunity for title IV-E agencies to submit proposals for new child welfare waiver demonstration projects. CB is able to approve up to ten child welfare waiver demonstration projects in each of Fiscal Years 2012, 2013 and 2014. These waiver demonstration projects involve the waiver of certain requirements of title IV-E and IV-B. These projects do not provide additional funding to carry out new services; rather they allow more flexible uses of Federal funds in order to test new approaches to service delivery or financing structures in an effort to improve outcomes for children and families involved in the child welfare system. We encourage title IV-E agencies wishing to apply for approval of a waiver demonstration project to submit a letter of intent followed by a full proposal at a later date. For title IV-E agencies that choose to submit a letter of intent, the letter of intent should indicate the title IV-E agency's intent to submit a proposal, and briefly describe the demonstration project, including the nature of the intervention the agency wishes to implement, the target population the agency wishes to serve, the reasons for selecting the proposed project and the evaluation design that the agency is considering. The full proposal must describe the project in extensive detail including the goals identified in statute that the project is intended to accomplish, the geographic areas in which the proposed project will be conducted, the service interventions to be implemented, the impact intervention is expected to have on outcomes related to safety, permanency, well-being, how service provision will change for children and families under the waiver demonstration, a statement of program requirements for waivers needed to conduct the project, an estimate of the projected costs or savings of the proposed project, a description of the proposed evaluation design and an accounting of any other sources of funding that have been used to provide the services that the agency now proposes to address under a waiver demonstration.

Respondents: State Governments.

Annual Burden Estimates
Instrument | Number of respondents | Number of responses per respondent | Average burden hours per response | Total burden hours
Letter of Intent | 10 | 1 | 5 | 50
Full proposal | 10 | 1 | 40 | 400

Estimated Total Annual Burden Hours: 450.

Additional Information

Copies of the proposed collection may be obtained by writing to the Administration for Children and Families, Office of Planning, Research and Evaluation, 370 L'Enfant Promenade, SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-7285, Email: OIRA_SUBMISSION@OMB.EOP.GOV. Attn: Desk Officer for the Administration for Children and Families.

Robert Sargis,
Reports Clearance Officer.

[FR Doc. 2012-8468 Filed 4-6-12; 8:45 am]

BILLING CODE 4184-01-P